DEPARTMENT OF TRANSPORTATION

Federal Aviation Administration

14 CFR Part 39

[Docket No. FAA-2012-1181; Directorate Identifier 2003-CE-030-AD; Amendment 39-17249; AD 2003-17-03 R1]

RIN 2120-AA64

Airworthiness Directives; PIAGGIO AERO INDUSTRIES S.p.A Airplanes

AGENCY: Federal Aviation Administration (FAA), DOT.

ACTION: Final rule; request for comments.

SUMMARY: We are revising an existing airworthiness directive (AD) for certain Piaggio Aero Industries S.p.A. Model P-180 airplanes. That AD currently requires replacement of any firewall shutoff or crossfeed valve with a serial number in a certain range even if it has been previously modified. The way the applicability was written includes valves that should not be affected and are not included in the referenced service information. This AD requires the same actions as the current AD, but only affects those firewall shutoff valves referenced in the referenced service information. We are issuing this AD to clarify the affected parts required to correct the unsafe condition on these products.

DATES: This AD is effective November 14, 2012.

The Director of the Federal Register approved the incorporation by reference of certain other publications listed in this AD as of September 3, 2003 (68 FR 50693, August 22, 2003).

We must receive any comments on this AD by December 31, 2012.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Piaggio Aero Industries S.p.A—Airworthiness Office, Via Luigi Cibrario, 4-16154 Genova-Italy; phone: +39 010 6481353; fax: +39 010 6481881; email: airworthiness@piaggioaero.it; Internet: http://www.piaggioaero.com/#/en/aftersales/service-support. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

On August 12, 2003, we issued AD 2003-17-03, amendment 39-13277 (68 FR 50693, August 22, 2003), for certain Piaggio Aero Industries S.p.A. Model P-180 airplanes. That AD requires inspection and determination of whether any firewall shutoff or crossfeed valve with a serial number in a certain range is installed and requires replacement or modifications of any valve that has a serial number within this range. This AD allows the pilot to check the logbook and does not require the inspection and replacement requirement if the check shows that one of these valves is definitely not installed.

That AD resulted from a ground fire on the left-hand engine nacelle of one of the affected airplanes caused by a cracked firewall crossfeed valve that had leaked fuel. This airplane model is manufactured in Italy and is type certificated for operation in the United States under the provisions of section 21.29 of the Federal Aviation Regulations. The Ente Nazionale per l'Aviazione Civile (ENAC), which is the airworthiness authority for Italy, issued Italian RAI-AD 2003-119, dated April 3, 2003, in order to ensure the continued airworthiness of these airplanes in Italy.

We issued that AD to prevent a faulty firewall shutoff or crossfeed valve from developing cracks and leaking fuel, which could result in an engine fire.

Actions Since AD Was Issued

Since we issued AD 2003-17-03 (68 FR 50693, August 22, 2003), we learned that the way the applicability was written includes valves that should not be affected and are not included in PIAGGIO Aero Industries S.p.A. Service Bulletin No. ASB80-0191, dated February 27, 2003.

Relevant Service Information

We reviewed PIAGGIO Aero Industries S.p.A. Service Bulletin (SB) No. ASB80-0191, dated February 27, 2003; and Electromech Technologies SB 484-3 AB, dated February 18, 2003. The service information describes procedures for replacing/modifying the firewall and crossfeed valves.

FAA's Determination

We are issuing this AD because we evaluated all the relevant information and determined the unsafe condition described previously is likely to exist or develop in other products of the same type design.

AD Requirements

This AD requires the same actions as AD 2003-17-03 (68 FR 50693, August 22, 2003), but only affects those firewall shutoff and crossfeed valves referenced in PIAGGIO Aero Industries S.p.A. SB No. ASB80-0191, dated February 27, 2003.

FAA's Justification and Determination of the Effective Date

An unsafe condition exists that requires the immediate adoption of this AD. The FAA has found that the risk to the flying public justifies waiving notice and comment prior to adoption of this rule because the current AD includes firewall shutoff and crossfeed valves that should not be affected by the required actions. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2012-1181 and directorate identifier 2003-CE-030-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 102 airplanes of U.S. registry.

We estimate the following costs to comply with this AD:

Estimated Costs
Action | Labor cost | Parts cost | Cost per product | Cost on U.S. operators
Determination/Inspection | .5 work-hours × $85 per hour = $42.50 | N/A | $42.50 | $4,335

We estimate the following costs to do any necessary replacements/modifications that would be required based on the results of the determination. We have no way of determining the number of aircraft that might need these replacements:

On-Condition Costs
Action | Labor cost | Parts cost | Cost per product
Replacement of affected firewall shutoff and crossfeed valves | 29 work-hours × $85 per hour = $2,465 | $4,482 | $6,947

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2003-17-03, Amendment 39-13277 (68 FR 50693, August 22, 2003), and adding the following new AD:

2003-17-03 R1 PIAGGIO AERO INDUSTRIES S.p.A: Amendment 39-17249; Docket No. FAA-2012-1181; Directorate Identifier 2003-CE-030-AD.

(a) Effective Date

This AD is effective November 14, 2012.

(b) Affected ADs

This AD revises AD 2003-17-03, Amendment 39-13277 (68 FR 50693, August 22, 2003).

(c) Applicability

(1) This AD applies to PIAGGIO AERO INDUSTRIES S.p.A Model P-180 airplanes, all serial numbers, that are:

(i) certificated in any category; and

(ii) equipped with a firewall shutoff or crossfeed valve that is identified in the Effectivity table of PIAGGIO Aero Industries S.p.A. Service Bulletin (SB) No. ASB80-0191, dated February 27, 2003.

(2) The only difference between the applicability of this AD and AD 2003-17-03 (68 FR 50693, August 22, 2003), is that AD 2003-17-03 applied to firewall shutoff and crossfeed valves that should not have been included.

(i) No further action is necessary if the actions of this AD were done in compliance with AD 2003-17-03, Amendment 39-13277 (68 FR 50693, August 22, 2003).

(ii) Any firewall shutoff or crossfeed valve that was modified per AD 2003-17-03 (68 FR 50693, August 22, 2003), and re-identified with an “A” at the end of the serial number and is not identified in the Effectivity table of PIAGGIO Aero Industries S.p.A. SB No. ASB80-0191, dated February 27, 2003, is an airworthy part and is not affected by this AD.

(d) Subject

Joint Aircraft System Component (JASC)/Air Transport Association (ATA) of America Code 28: Fuel.

(e) Unsafe Condition

This AD was prompted by a report of a ground fire on the left-hand engine nacelle of one of the affected airplanes caused by a cracked firewall crossfeed valve that had leaked fuel. We are issuing this AD to clarify the affected parts required to correct the unsafe condition on these products.

(f) Compliance

Comply with this AD within the compliance times specified, unless already done.

(g) Records Check

(1) Within 5 days after September 3, 2003 (the effective date of AD 2003-17-03 (68 FR 50693, August 22, 2003)), check the maintenance records to determine whether a firewall shutoff or crossfeed valve that is affected by this AD is installed. The owner/operator holding at least a private pilot certificate as authorized by section 43.7 of the Federal Aviation Regulations (14 CFR 43.7) may perform this check.

(2) If, by checking the maintenance records, the owner/operator can definitely show that no affected firewall shutoff or crossfeed valve is installed, then the inspection requirement of paragraph (h) of this AD and the replacement requirement of paragraph (i) of this AD do not apply. You must make an entry into the aircraft records that shows compliance with these portions of the AD in accordance with section 43.9 of the Federal Aviation Regulations (14 CFR 43.9).

(h) Inspection

Within 5 days after September 3, 2003 (the effective date of AD 2003-17-03 (68 FR 50693, August 22, 2003)), inspect the three firewall shutoff and crossfeed valves to determine whether they incorporate a serial number as referenced in the Effectivity table of PIAGGIO Aero Industries S.p.A. SB No. ASB80-0191, dated February 27, 2003.

(i) Replacement/Modification

If any of the firewall shutoff or crossfeed valves that are referenced in the Effectivity table of PIAGGIO Aero Industries S.p.A. SB No. ASB80-0191, dated February 27, 2003, are found, before further flight, replace or modify each affected valve following PIAGGIO Aero Industries S.p.A. Service Bulletin (SB) No. ASB80-0191, dated February 27, 2003; and Electromech Technologies SB 484-3 AB, dated February 18, 2003.

(j) Spares

As of 5 days after September 3, 2003 (the effective date of AD 2003-17-03 (68 FR 50693, August 22, 2003)), do not install, on any airplane, a firewall shutoff or crossfeed valve that is referenced in the Effectivity table of PIAGGIO Aero Industries S.p.A. SB No. ASB80-0191, dated February 27, 2003, unless it has been modified per paragraph (i) of this AD.

(k) Alternative Methods of Compliance (AMOCs)

(1) The Manager, Standards Office, FAA, has the authority to approve AMOCs for this AD, if requested using the procedures found in 14 CFR 39.19. Send information to ATTN: Mike Kiesov, Aerospace Engineer, FAA, Small Airplane Directorate, 901 Locust, Room 301, Kansas City, Missouri 64106; telephone: (816) 329-4144; fax: (816) 329-4090; email: mike.kiesov@faa.gov.

(2) Before using any approved AMOC, notify your appropriate principal inspector, or lacking a principal inspector, the manager of the local flight standards district office/certificate holding district office.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 3, 2003 (68 FR 50693, August 22, 2003):

(i) PIAGGIO Aero Industries S.p.A. Service Bulletin (SB) No. ASB80-0191, dated February 27, 2003; and

(ii) Electromech Technologies SB 484-3 AB, dated February 18, 2003.

(4) For service information identified in this AD, contact Piaggio Aero Industries S.p.A-Airworthiness Office, Via Luigi Cibrario, 4-16154 Genova-Italy; phone: +39 010 6481353; fax: +39 010 6481881; email: airworthiness@piaggioaero.it; Internet: http://www.piaggioaero.com/#/en/aftersales/service-support.

(5) You may view this service information at FAA, Small Airplane Directorate, 901 Locust, Kansas City, Missouri 64106. For information on the availability of this material at the FAA, call (816) 329-4148.

(6) You may view this service information that is incorporated by reference at the National Archives and Records Administration (NARA). For information on the availability of this material at NARA, call 202-741-6030, or go to: http://www.archives.gov/federal-register/cfr/ibr-locations.html.

Issued in Kansas City, Missouri, on October 31, 2012.
Earl Lawrence,
Manager, Small Airplane Directorate, Aircraft Certification Service.

[FR Doc. 2012-27051 Filed 11-13-12; 8:45 am]

BILLING CODE 4910-13-P